DEPARTMENT OF TRANSPORTATION

Federal Highway Administration

Renewed and Amended Memorandum of Understanding (MOU) Assigning Environmental Responsibilities to the State of Utah; Correction

AGENCY: Utah Division Office, Federal Highway Administration (FHWA), DOT.

ACTION: Correction.

SUMMARY: This notice provides a corrected weblink to submit electronic comments on the proposed MOU.

DATES: Please submit comments by May 11, 2023.

ADDRESSES: You may submit comments by any of the methods described below.

Website: https://udot.utah.gov/connect/about-us/program-development-group/environmental-division/.

Fax: 1-202-493-2251.

Hand Delivery: U.S. Department of Transportation, Ground Floor Room W12-140, 1200 New Jersey Avenue SE, Washington, DC 20590, between 9 a.m. and 5 p.m. (EST), Monday through Friday, except Federal holidays.

Background: On April 11, 2023, at 88 FR 21735, FHWA invited public comment on the FHWA and Utah Department of Transportation's plan to renew and amend an existing MOU established pursuant to section 326 of amended chapter 3 of title 23, United States Code (23 U.S.C. 326). The Notice contained an incorrect weblink for submitting electronic comments. Electronic comments should be submitted to Edward.Woolford@dot.gov by May 11, 2023.

(Catalog of Federal Domestic Assistance Program Number 20.205, Highway Planning and Construction. The regulations implementing Executive Order 12372 regarding intergovernmental consultation on Federal programs and activities apply to this program.)

Authority: 23 U.S.C. 326; 42 U.S.C. 4331, 4332; 23 CFR 771.117; 40 CFR 1507.3, 1508.4.

Issued on: April 18, 2023.
Ivan Marrero,
Division Administrator, Federal Highway Administration.

[FR Doc. 2023-08534 Filed 4-21-23; 8:45 am]

BILLING CODE 4910-22-P